DEPARTMENT OF TRANSPORTATION

Federal Highway Administration

Environmental Impact Statement: Watauga and Caldwell Counties, NC

AGENCY: Federal Highway Administration (FHWA), DOT.

ACTION: Rescindment of notice of intent.

SUMMARY: The FHWA rescinds its notice of intent to prepare an environmental impact statement for the proposed US 321 Improvements project at Blowing Rock.

FOR FURTHER INFORMATION CONTACT: Ms. Emily Lawton, Operations Engineer, Federal Highway Administration, 310 New Bern Avenue, Suite 410, Raleigh, North Carolina 27601, Telephone: (919) 856-4350.

SUPPLEMENTARY INFORMATION: The FHWA, in cooperation with the North Carolina Department of Transportation (NCDOT), prepared a Draft Environmental Impact Statement (FHWA-NC-EIS-02-D) for the US 321 Improvements project at Blowing Rock in Caldwell and Watauga Counties, North Carolina. The FHWA does not intend to prepare a Final Environmental Impact Statement on this action.

(Catalog of Federal Domestic Assistance Program Number 20.205, Highway Research Planning and Construction. The regulations implementing Executive Order 12372 regarding intergovernmental consultation on Federal programs and activities apply to this program.)
Issued on March 3, 2004.
Emily Lawton,
Operations Engineer, Raleigh, North Carolina.

[FR Doc. 04-5965 Filed 3-16-04; 8:45 am]

BILLING CODE 4910-22-M